DEPARTMENT OF TRANSPORTATION

Federal Aviation Administration

14 CFR Part 39

[Docket No. FAA-2005-22033; Directorate Identifier 2004-NM-218-AD; Amendment 39-14391; AD 2005-24-11]

RIN 2120-AA64

Airworthiness Directives; Empresa Brasileira de Aeronautica S.A. (EMBRAER) Model EMB-135 Airplanes and Model EMB-145, -145ER, -145MR, -145LR, -145XR, -145MP, and -145EP Airplanes

AGENCY: Federal Aviation Administration (FAA), Department of Transportation (DOT).

ACTION: Final rule.

SUMMARY: The FAA is superseding an existing airworthiness directive (AD) that applies to certain EMBRAER Model EMB-135 and Model EMB-145 series airplanes. The existing AD currently requires repetitive inspections of the spring cartridges of the elevator gust lock system to determine if the lock washer projection correctly fits the slots in the cartridge flange, and corrective action if necessary. The existing AD also provides for optional terminating action for the repetitive inspections for certain airplanes. This AD retains the requirements of the existing AD and adds a requirement for final terminating action for all affected airplanes. This AD results from reports of an improperly fitting lock washer causing the clevis of the spring cartridge in the electromechanical elevator gust lock system to become unscrewed. We are issuing this AD to prevent the unscrewing of the spring cartridge clevis from jamming the elevator, which could lead to reduced controllability of the airplane.

DATES: This AD becomes effective January 9, 2006.

The Director of the Federal Register approved the incorporation by reference of certain publications listed in the AD as of January 9, 2006.

On May 14, 2003 (68 FR 22585, April 29, 2003), the Director of the Federal Register approved the incorporation by reference of EMBRAER Service Bulletin 145-27-0098, dated December 9, 2002; and EMBRAER Service Bulletin 145LEG-27-0006, dated December 9, 2002.

ADDRESSES: You may examine the AD docket on the Internet at http://dms.dot.gov or in person at the Docket Management Facility, U.S. Department of Transportation, 400 Seventh Street SW., Nassif Building, room PL-401, Washington, DC.

Contact Empresa Brasileira de Aeronautica S.A. (EMBRAER), P.O. Box 343—CEP 12.225, Sao Jose dos Campos—SP, Brazil, for service information identified in this AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA proposed to amend part 39 of the Federal Aviation Regulations (14 CFR part 39) with an AD to supersede AD 2003-09-03, amendment 39-13132 (68 FR 22585, dated April 29, 2003). The existing AD applies to certain EMBRAER Model EMB-135 and -145 series airplanes. The proposed AD was published in the Federal Register on August 8, 2005 (70 FR 45590), to retain the requirements of AD 2003-09-03 and provide for final terminating action for all affected airplanes.

Comments

We provided the public the opportunity to participate in the development of this AD. We received no comments on the NPRM or on the determination of the cost to the public.

Credit for Using Revised Service Information

Since the NPRM was published, we have reviewed later revisions of EMBRAER Service Bulletins 145-27-0098 and 145LEG-27-0006, both dated December 9, 2002, which are referenced as the appropriate sources of service information for accomplishing the repetitive inspections specified in paragraphs (f) and (g) of the AD. The later revisions are EMBRAER Service Bulletin 145-27-0098, Change 01, dated June 3, 2003, and Revision 02, dated April 12, 2004; and EMBRAER Service Bulletin 145LEG-27-0006, Revision 01, dated June 3, 2003, and Revision 02, dated April 12, 2004. We have included the later revisions of those service bulletins in paragraphs (f) and (g) of this AD.

Explanation of Change to Affected ADs

Since the NPRM was published, a supplemental NPRM was issued for FAA rulemaking 2002-NM-89-AD. Therefore, we have revised paragraph (b)(2) of this AD to update the reference to FAA rulemaking 2002-NM-89-AD (70 FR 55310, September 21, 2005).

Explanation of Changes to Applicability

We have revised the applicability of the existing AD to identify model designations as published in the most recent type certificate data sheet for the affected models.

In the NPRM, we inadvertently excluded Model EMB-145XR, -145MP, and -145EP airplanes from paragraph (c), Applicability, of the proposed AD. However, since those airplanes were included with all other airplanes listed in the Preamble, Discussion and Requirements sections of the proposed AD, it was clear that we intended to include those airplanes in the proposed AD. Therefore, we have revised paragraph (c) of the AD to include Model EMB-145XR, -145MP, and -145EP airplanes.

Clarification of Alternative Method of Compliance (AMOC) Paragraph

We have revised this action to clarify the appropriate procedure for notifying the principal inspector before using any approved AMOC on any airplane to which the AMOC applies.

Conclusion

We have carefully reviewed the available data and determined that air safety and the public interest require adopting the AD with the changes described previously. We have determined that these changes will neither increase the economic burden on any operator nor increase the scope of the AD.

Costs of Compliance

This AD affects about 380 airplanes of U.S. registry. The average labor rate is estimated to be $65 per work hour.

The inspections required by AD 2003-09-03 that are retained in this AD take about 1 work hour per airplane. Based on these figures, the estimated cost of the required inspections is $24,700, or $65 per airplane, per inspection cycle.

The new required actions take about 3 work hours per airplane. Required parts cost about $79 per cartridge (2 per airplane). Based on these figures, the estimated cost of the new actions specified in this AD for U.S. operators is $134,140, or $353 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13132 (68 FR 22585, April 29, 2003), and adding the following new airworthiness directive (AD):

2005-24-11 Empresa Brasileira de Aeronautica S.A. (EMBRAER): Amendment 39-14391. Docket No. FAA-2005-22033; Directorate Identifier 2004-NM-218-AD.

Effective Date

(a) This AD becomes effective January 9, 2006.

Affected ADs

(b)(1) This AD supersedes AD 2003-09-03.

(2) Certain actions required by this AD are affected by FAA rulemaking 2002-NM-89-AD.

Applicability

(c) This AD applies to EMBRAER Model EMB-135BJ, -135ER, -135KE, -135KL, -135LR, -145, -145ER, -145MR, -145LR, -145XR, -145MP, and -145EP airplanes; certificated in any category; having spring cartridges part number KPD2611 installed in the elevator gust lock system.

Unsafe Condition

(d) This AD results from reports of an improperly fitting lock washer causing the clevis of the spring cartridge in the electromechanical gust lock system to become unscrewed. We are issuing this AD to prevent the unscrewing of the spring cartridge clevis from jamming the elevator, which could lead to reduced controllability of the airplane.

Compliance

(e) You are responsible for having the actions required by this AD performed within the compliance times specified, unless the actions have already been done.

Restatement of Requirements of AD 2003-09-03

Inspection

(f) For Model EMB-135BJ airplanes: Within 30 days after May 14, 2003 (the effective date of AD 2003-09-03), perform a general visual inspection of each spring cartridge of the elevator gust lock system to determine if the lock washer projection correctly fits the slots in the cartridge flange, in accordance with EMBRAER Service Bulletin 145LEG-27-0006, dated December 9, 2002; Revision 01, dated June 3, 2003; or Revision 02, dated April 12, 2004. Before further flight, replace any discrepant spring cartridge with a new part having the same part number, in accordance with the service bulletin; or replace the spring cartridge, part number (P/N) KDP2611, with a new, improved spring cartridge, P/N KDP4235, as specified in paragraph (h) of this AD. After the effective date of this AD, only the replacement specified in paragraph (h) may be accomplished. Repeat the inspection at intervals not to exceed 800 flight hours until the replacement of the spring cartridge is accomplished as required by paragraph (h). Although the service bulletin recommends that operators report inspection results to EMBRAER, this AD does not require such a report.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(g) For airplanes not identified in paragraph (f) of this AD: At the applicable time specified in paragraph (g)(1) or (g)(2) of this AD, perform a general visual inspection of each spring cartridge of the elevator gust lock system to determine if the lock washer projection correctly fits the slots in the cartridge flange, in accordance with EMBRAER Service Bulletin 145-27-0098, dated December 9, 2002; Change 01, dated June 3, 2003; or Revision 02, dated April 12, 2004. Repeat the inspection at intervals not to exceed 800 flight hours after the initial inspection until the replacement of the spring cartridge, P/N KDP2611, with a new, improved spring cartridge, P/N KDP4235, is done as specified in paragraph (h) of this AD. Although the service bulletin recommends that operators report inspection results to EMBRAER, this AD does not require such a report.

(1) For airplanes equipped with an operational electromechanical gust lock system on the elevator: Inspect within 30 days after May 14, 2003, in accordance with PART I of the service bulletin. Before further flight, replace any discrepant spring cartridge with a new part having the same part number, in accordance with PART I of the service bulletin; or do the replacement specified in paragraph (h) of this AD. After the effective date of this AD, only the replacement specified in paragraph (h) may be accomplished.

(2) For airplanes that are not equipped with an operational electromechanical gust lock system on the elevator, but that are equipped with provisions for the system: Inspect within 60 days after May 14, 2003, in accordance with PART II of the service bulletin. Before further flight, replace any discrepant spring cartridge with a new part having the same part number, in accordance with PART II of the service bulletin; or do the replacement specified in paragraph (h) of this AD. After the effective date of this AD, only the replacement specified in paragraph (h) may be accomplished. Alternatively, removal of the spring cartridges terminates the repetitive inspection requirement of this AD during the time the cartridges are removed.

New Requirements of This AD

Replacement of Spring Cartridge

(h) Within 5,500 flight hours or 36 months after the effective date of this AD, whichever comes first, replace the spring cartridge, P/N KPD2611, with a new, improved spring cartridge, P/N KDP4235, in accordance with the Accomplishment Instructions of EMBRAER Service Bulletin 145LEG-27-0012, Revision 01, dated April 12, 2004 (for Model EMB-135BJ airplanes); or EMBRAER Service Bulletin 145-27-0102, Revision 02, dated January 20, 2005 (for Model EMB-135ER, -135KE, -135KL, -135LR, -145, -145ER, -145MR, -145LR, -145XR, -145MP, and -145EP airplanes); as applicable. Accomplishing this replacement terminates the repetitive inspections required by paragraphs (f) and (g) of this AD.

Parts Installation

(i) As of the effective date of this AD, no person may install a spring cartridge, P/N KPD2611, on any airplane.

Cartridge Replacement According to Previous Issue of Service Bulletin

(j) Spring cartridge replacements accomplished before the effective date of this AD in accordance with EMBRAER Service Bulletin 145LEG-27-0012, dated March 2, 2004; or EMBRAER Service Bulletin 145-27-0102, dated December 23, 2003, or Revision 01, dated April 12, 2004; are considered acceptable for compliance with the corresponding action required by this AD.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

(3) AMOCs approved previously according to AD 2003-09-03, amendment 39-13132, are approved as AMOCs for the corresponding provisions of this AD.

Related Information

(l) Brazilian airworthiness directive 2003-01-03R1, dated July 26, 2004, also addresses the subject of this AD.

Material Incorporated by Reference

(m) You must use the service bulletins specified in Table 1 of this AD to perform the actions that are required by this AD, unless the AD specifies otherwise.

Table 1.—All Material Incorporated by Reference
EMBRAER service bulletin | Issue level | Date
145-27-0098 | Original | December 9, 2002.
145-27-0098 | Change 01 | June 3, 2003.
145-27-0098 | Revision 02 | April 12, 2004.
145-27-0102 | Revision 02 | January 20, 2005.
145LEG-27-0006 | Original | December 9, 2002.
145LEG-27-0006 | Revision 01 | June 3, 2003.
145LEG-27-0006 | Revision 02 | April 12, 2004.
145LEG-27-0012 | Revision 01 | April 12, 2004.

(1) The Director of the Federal Register approved the incorporation by reference of the service documents listed in Table 2 of this AD in accordance with 5 U.S.C. 552(a) and 1 CFR part 51. EMBRAER Service Bulletin 145LEG-27-0012, Revision 01, dated April 12, 2004, contains the following effective pages:

Page No. | Revision level shown on page | Date shown on page
1, 2 | 01 | April 12, 2004.
3-7 | Original | March 2, 2004.

Table 2.—New Material Incorporated by Reference
EMBRAER service bulletin | Issue level | Date
145-27-0098 | Change 01 | June 3, 2003.
145-27-0098 | Revision 02 | April 12, 2004.
145-27-0102 | Revision 02 | January 20, 2005.
145LEG-27-0006 | Revision 01 | June 3, 2003.
145LEG-27-0006 | Revision 02 | April 12, 2004.
145LEG-27-0012 | Revision 01 | April 12, 2004.

(2) On May 14, 2003 (68 FR 22585, April 29, 2003), the Director of the Federal Register approved the incorporation by reference of EMBRAER Service Bulletin 145-27-0098, dated December 9, 2002; and EMBRAER Service Bulletin 145LEG-27-0006, dated December 9, 2002.

(3) Contact Empresa Brasileira de Aeronautica S.A. (EMBRAER), P.O. Box 343-CEP 12.225, Sao Jose dos Campos-SP, Brazil, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 18, 2005.
Kalene C. Yanamura,
Acting Manager, Transport Airplane Directorate, Aircraft Certification Service.

[FR Doc. 05-23512 Filed 12-2-05; 8:45 am]

BILLING CODE 4910-13-P